SECURITIES AND EXCHANGE COMMISSION

[File No. 500-1]

In the Matter of Icon International Holdings, Inc., Interchange Medical, Inc., Outsource International, Inc., and Smart Choice Automotive Group, Inc.; Order of Suspension of Trading

January 31, 2007.

It appears to the Securities and Exchange Commission that there is a lack of current and accurate information concerning the securities of Icon International Holdings, Inc. because it has not filed any periodic reports since the period ended March 31, 2001.

It appears to the Securities and Exchange Commission that there is a lack of current and accurate information concerning the securities of Interchange Medical, Inc. because it has not filed any periodic reports since the period ended September 30, 2002.

It appears to the Securities and Exchange Commission that there is a lack of current and accurate information concerning the securities of Outsource International, Inc. because it has not filed any periodic reports since the period ended April 1, 2001.

It appears to the Securities and Exchange Commission that there is a lack of current and accurate information concerning the securities of Smart Choice Automotive Group, Inc. because it has not filed any periodic reports since the period ended January 31, 2002.

The Commission is of the opinion that the public interest and the protection of investors require a suspension of trading in the securities of the above-listed companies.

Therefore, it is ordered, pursuant to Section 12(k) of the Securities Exchange Act of 1934, that trading in the above-listed companies is suspended for the period from 9:30 a.m. EST on January 31, 2007, through 11:59 p.m. EST on February 13, 2007.

By the Commission.
Nancy M. Morris,
Secretary.

[FR Doc. 07-473 Filed 1-31-07; 11:25 am]

BILLING CODE 8010-01-P